DEPARTMENT OF THE INTERIOR

Bureau of Land Management

[LLNMF00000 L13100000.PP0000 16X]

Notice of Public Meeting, Farmington District Resource Advisory Council Meeting, New Mexico

AGENCY: Bureau of Land Management, Interior.

ACTION: Notice of public meeting.

SUMMARY: In accordance with the Federal Land Policy and Management Act and the Federal Advisory Committee Act, the Bureau of Land Management's (BLM) Farmington District Resource Advisory Council (RAC) will meet as indicated below.

DATES: The RAC will meet on May 9 and 10, 2016, at the BLM Farmington District Office, 6251 College Blvd., Suite A, Farmington, New Mexico. On May 9, 2016, the RAC will meet from 9 a.m. to 4 p.m. at the District Office. On May 10, 2016, from 8 a.m. to 5 p.m. the BLM and RAC will tour the Pierre's Site located south of Farmington, NM and then visit BLM reclaimed sites. Both the meeting and field tour is open to the public. In addition, the public may send written comments to the RAC at the BLM Farmington District Office, 6251 College Blvd., Suite A, Farmington, NM 87401.

FOR FURTHER INFORMATION CONTACT: Tamara Faust, BLM Farmington District Office, 6251 College Blvd., Suite A, Farmington, NM 87401, 505-564-7762. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Farmington District RAC advises the Secretary of the Interior, through the BLM, on a variety of planning and management issues associated with public land management in the BLM's Farmington District. Planned agenda items include updates on National, current, or proposed projects in the Farmington District including Onshore Orders 3, 4, 5 and 9, a fee proposal and business plan for BLM -Taos recreation sites, a fee proposal for the Carson National Forest, a cheat grass and weed control pilot project, a Bisti Pentaceratops extraction update, and a field trip.

A half-hour comment period, during which the public may address the RAC, has been scheduled for 3 p.m. on Monday, May 9, 2016. Depending on the number of individuals wishing to comment and time available, the time for individual oral comments may be limited.

Byron Loosle,
Acting Deputy State Director, Lands and Resources.

[FR Doc. 2016-09110 Filed 4-19-16; 8:45 am]

BILLING CODE 4310-FB-P